DEPARTMENT OF JUSTICE

National Institute of Corrections

Solicitation for a Cooperative Agreement: Document: A Guide To Planning Jail Programs

AGENCY: National Institute of Corrections, Department of Justice.

ACTION: Solicitation for a Cooperative Agreement.

SUMMARY: The National Institute of Corrections, Jails Division, is seeking applications for the development of a document that provides jail staff with a guide on developing and implementing programs for jail inmates.

DATES: Applications must be received by 4 p.m., Friday, July 11, 2008.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, ext. 0 for pickup. Faxed or e-mailed applications will not be accepted. Electronic applications can be submitted via http://www.grants.gov.

FOR FURTHER INFORMATION CONTACT: A copy of this announcement and the required application forms can be downloaded from the NIC Web page at http://www.nicic.gov. Hard copies of the announcement can be obtained by calling Rita Rippetoe at 1-800-995-6423 ext. 44222 or e-mail rrippetoe@bop.gov.

All technical or programmatic questions concerning this announcement should be directed to Robbye Braxton-Mintz, Correctional Program Specialist, National Institute of Corrections, Jails Division. Ms. Mintz can be reached on 1-800-995-6423 ext. 44562 or by e-mail at rbraxtonmintz@bop.gov.

SUPPLEMENTARY INFORMATION: Background: The National Institute of Corrections (NIC) has identified six key elements in the effective management of inmate behavior in jails:

Assessing the risks and needs of each inmate at various points during his/her detention;

Assigning inmates to appropriate housing;

Meeting inmates' basic needs;

Defining and conveying expectations for inmate behavior;

Supervising inmates;

Keeping inmates productively occupied.

If a jail fully and properly implements all six elements, it should experience a significant reduction in the negative inmate behavior often experienced in jails, such as vandalism, violence, rule violations, and disrespectful behavior toward staff and other inmates.

The NIC Jails Division offers training and technical assistance on inmate behavior management, but wishes to develop additional tools that will help jails implement the individual elements. This project focuses on keeping inmates productively occupied through the development of a document that provides specific guidance on the development of implementation of inmate activities and programs in jails.

Objectives: The National Institute of Corrections wishes to produce a document that provides jail administrators and staff guidance on how to develop and implement inmate programs, as part of the overall inmate behavior management strategy.

Statement of Work: General Information.

Document Length: The number of pages in the body is to be determined. The document will include appendices and a bibliography.

Document Audience: Jail administrators, program management staff, and line correctional staff. This guide is intended for the use by jails of all sizes.

Use of Document: The document will be a practical guide for the development and implementation of programs in a jail setting.

Document Distribution: NIC expects to distribute the document widely. It will be made available on the NIC Web site and through the NIC Information Center, upon request and free of charge.

Document Content: The document will be a clear and practical guide for jail practitioners on developing, implementing, and evaluating inmate activities and programs in jails. It must account for diversity among jails, in terms of size and resources available.

The document will cover the following, at a minimum:

The benefits of implementing inmate activities and programs in jails related to reducing idle time and negative behavior. The document must cite the available evidence of the relationship between inmate activities and programs and the reduction of negative inmate behavior. This will involve identifying research on this topic and contact with a variety of jails to obtain information on their experience. In some cases, studies may be available. In other cases, only anecdotal evidence may be given. The author will identify, review, and cite both types of evidence.

The role of jail administration and management staff in providing leadership and support for reducing negative inmate behavior through implementation of activities and programs. The author will stress the importance of the jail administrator's demonstrated commitment to this and provide concrete examples of how the administrator can actively demonstrate commitment.

An overview of the range and variety of inmate activities and programs in terms of level of complexity, level of funding required, and types of staff (jail staff, volunteers, non-jail personnel) necessary. This discussion should stress that some level of programs can be implemented in any jail, regardless of size or resource levels, and the document should clearly illustrate this through examples.

Barriers to planning and implementing activities and programs, such as those related to resources, space, equipment, staff support, administrative commitment, and others. The document will also provide suggestions for overcoming barriers, with examples from jails that have experienced this.

Planning for activities and programs, including setting goals, designing activities and programs to achieve goals, and identifying resources needed for program implementation. The document will describe the use of data collection and analysis in determining the need for a given activity or program and setting goals.

Activity and program implementation, with related documentation needed.

Evaluation (assessing both the quality of implementation and success in achieving goals). The document will describe the data collection and analysis necessary for evaluation, and it will describe evaluation processes.

Revision of activities and programs based on evaluation.

Project Description: The awardee will produce a completed document that has received initial editing from a professional editor. NIC will be responsible for the final editing process and document design, but the awardee will remain available during this time to answer questions and to make revisions to the document.

Project Schedule: The list below shows the major activities required to complete the project. Document development will begin upon award of this agreement and must be completed 12 months after the award date. The schedule for completion of activities should include, at a minimum, the following activities. The awardee will—

Meet with NIC project manager for an overview of the project and initial planning;

Review materials provided by NIC;

Complete the initial outline of document content and layout;

Meet with NIC project manager to review, discuss and agree on content outline;

Research content topics and related resources;

Submit draft sections of document to NIC for review;

Revise draft sections for NIC's approval;

Submit document to editor hired by awardee for first content edit;

Submit a draft of entire document to NIC for review;

Revise document for NIC's approval and

Submit document to NIC in hard copy and on disk in Microsoft Word format.

Throughout the project period, the awardee should make provision for meetings with NIC staff, to be held in Washington, DC, at critical planning and review points in document development.

Authority: Public Law 93-415.

Funds Available: NIC is seeking the applicants' best ideas regarding accomplishment of the scope of work and the related costs for achieving the goals of this solicitation. The final budget and award amount will be negotiated between NIC and the successful applicant. Funds may only be used for the activities that are linked to the desired outcome of the project. No funds are transferred to state or local governments.

Eligibility of Applicants: Applications are solicited from any state or general unit of local government, private agency, educational institution, organization, individual or team with expertise in the described areas. Applicants must have a demonstrated ability to implement a project of this size and scope.

Applicant's Conference: An applicant's conference will be held on Friday, June 27, 2008 from 1 p.m. to 3 p.m. (EDT) at the NIC office, 500 1st Street, NW., Washington, DC, 7th Floor. The conference will give applicants the opportunity to meet NIC project staff and ask questions about the project and application procedures. Attendance at the conference is optional. Provisions will be made using WebEx technology (telephone and computer-based conferencing) for those unable to attend in person. The WebEx session requires applicants to have access to a telephone and computer. Applicants who plan to attend or participate via WebEx should call Robbye Braxton-Mintz, NIC Jails Division, Correctional Program Specialist, at (800) 995-6423 x 44562 by Monday, June 23, 2008 to confirm attendance or receive instructions for WebEx.

Application Requirements: An application package must include OMB Standard Form 424, Application for Federal Assistance; a cover letter that identifies the audit agency responsible for the applicant's financial accounts as well as the audit period or fiscal year that the applicant operates under (e.g., July 1 through June 30); and an outline of projected costs. The following additional forms must also be included: OMB Standard Form 424A, Budget Information—Non-Construction Programs; OMB Standard Form 424B, Assurances—Non-Construction Programs (both available at http://www.grants.gov) and DOJ/NIC Certification Regarding Lobbying; Debarment, Suspension and Other Responsibility Matters; and the Drug-Free Workplace Requirements (available at http://www.nicic.gov/Downloads/PDF/certif-frm.pdf.)

Applications should be concisely written, typed double spaced and reference the NIC Application Number and Title provided in this announcement.

Submit an original and three copies of your full proposal (program and budget narrative, application forms and assurances). The original should have the applicant's signature in blue ink. As previously stated, electronic submissions will only be accepted via http://www.grants.gov.

The narrative portion of the application should include, at a minimum a:

Brief paragraph indicating the applicants understanding of the purpose of the document and the issues to be addressed;

Brief paragraph that summarizes the project goals and objectives;

Clear description of the methodology that will be used to complete the project and achieve its goals;

Statement or chart of measurable project milestones and time lines for the completion of each milestone;

Description of the qualifications of the applicant organization and a resume for the principal and each staff member assigned to the project that documents relevant knowledge, skills and ability to carry out the project;

Minimum of three references for which the applicant has provided a similar service;

Budget that details all costs for the project, shows consideration for all contingencies for this project, and notes a commitment to work within the proposed budget and

Sample of a least one document completed by the applicant.

The applicant must specify its role in the production of the sample document(s).

Review Considerations: Applications will be reviewed by a team of NIC staff. Among the criteria used to evaluate the applications are:

Indication of a clear understanding of the project requirements;

Background, experience, and expertise of the proposed project staff, including any sub-contractors;

Effectiveness of the creative approach to the project;

Clear, concise description of all elements and tasks of the project, with sufficient and realistic time frames necessary to complete the tasks;

Technical soundness of project design and methodology;

Financial and administrative integrity of the proposal, including adherence to federal financial guidelines and processes;

A sufficiently detailed budget that shows consideration of all contingencies for this project and commitment to work within the budget proposed and

Indication of availability to meet with NIC staff.

Number of Awards: One.

NIC Application Number: 08J64.

Catalog of Federal Domestic Assistance Number: 16.601.

Executive Order 12372: This project is not subject to the provisions of Executive Order 12372.

Morris L. Thigpen,
Director, National Institute of Corrections.

[FR Doc. E8-12455 Filed 6-3-08; 8:45 am]

BILLING CODE 4410-36-P